DEPARTMENT OF ENERGY

Federal Energy Regulatory Commission

[Project No. 2600-088]

Bangor-Pacific Hydro Associates; Notice of Application Accepted for Filing, Soliciting Motions To Intervene and Protests, Ready for Environmental Analysis, and Soliciting Comments, Recommendations, Preliminary Terms and Conditions, and Preliminary Prescriptions

Take notice that the following hydroelectric application has been filed with the Commission and is available for public inspection.

a. Type of Application: New Major License.

b. Project No.: 2600-088.

c. Date Filed: May 27, 2022.

d. Applicant: Bangor-Pacific Hydro Associates (Bangor Hydro).

e. Name of Project: West Enfield Hydroelectric Project (project).

f. Location: On the Penobscot River in Penobscot County, Maine.

g. Filed Pursuant to: Federal Power Act, 16 U.S.C. 791(a)-825(r).

h. Applicant Contact: Michael Scarzello, Licensing Manager, Brookfield Renewable; 150 Maine Street, Lewiston ME 04240; telephone at (315) 566-0197; email at michael.scarzello@brookfieldrenewable.com.

i. FERC Contact: Michael Watts, Project Coordinator, New England Branch, Division of Hydropower Licensing; telephone at (202) 502-6123; email at michael.watts@ferc.gov.

j. Deadline for filing motions to intervene, protests, comments, recommendations, preliminary terms and conditions, and preliminary prescriptions: February 9, 2026, by 5:00 p.m. Eastern Time; Deadline for filing reply comments: March 24, 2026, by 5:00 p.m. Eastern Time.

The Commission strongly encourages electronic filing. Please file motions to intervene, protests, comments, recommendations, preliminary terms and conditions, and preliminary prescriptions using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: West Enfield Hydroelectric Project (P-2600-088).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The existing project includes a 664-foot-long, 30-foot-high concrete dam (West Enfield Dam) with a 363-foot-long spillway. The dam is equipped with three spillway gates and topped with 7-foot-high flashboards with a crest elevation of 156.1 feet National Geodetic Vertical Datum of 1929 (NGVD 29) at the top of the flashboards. The dam creates an impoundment that has a surface area of 1,148 acres at 156.1 feet NGVD 29. A 200-foot-long concrete dam (Runaround Dam) with three permanently closed metal gates is located on the western shoreline of the impoundment, approximately 1,800 feet upstream of the West Enfield Dam.

From the impoundment, water flows into an intake structure that is integral with the West Enfield Dam on the eastern shoreline of the impoundment. The intake includes four 21.25-foot-wide headgates equipped with trashracks with 1.25-inch clear bar spacing. From the intake, water flows directly to a concrete powerhouse that contains two 6.5-megawatt (MW) horizontal Kaplan turbine-generator units with a total installed capacity of 13.0 MW. Water is discharged from the powerhouse to a 1,100-foot-long tailrace.

The project includes a downstream fish passage facility adjacent to the intake structure that consists of five 4-foot-wide surface bypass entrances across the top of the turbine intakes. These bypass entrances lead to a collection gallery that then directs migrants to a 3-foot-diameter pipe before discharging into the tailrace. A concrete vertical slot fish ladder with a counting station is located on the east end of the West Enfield Dam and consists of three entrances and thirty-two pools. An upstream eel passage facility is also located on the east end of the spillway and consists of two identical ramps attached on either side of a submerged, 33-inch-wide, 24-inch-long aluminum hopper that allows captured eels to be lifted to the powerhouse deck.

The upstream and downstream fish passage facilities operate annually from April 1 to December 31 to provide passage for diadromous fish, while the upstream eel passage facility operates annually from April 1 to November 30.

Electricity generated by the turbine-generator units are transmitted to the electric grid via a 1,400-foot-long, 44-kilovolt transmission line. The minimum and maximum hydraulic capacities of the turbine-generator units are 1,200 and 6,730 cubic feet per second (cfs), respectively. The average annual energy production of the project from 2017 through 2021, was 86,748 megawatt-hours.

The current license requires Bangor Hydro to operate the project in a run-of-river mode, such that project outflow approximates inflow. Bangor Hydro maintains the impoundment at the flashboard crest elevation of 156.1 feet NGVD 29. The current license requires the following measures: (1) an Atlantic salmon smolt stockout pond; (2) funding anadromous fisheries management activities in the Penobscot River Basin; and (3) a Species Protection Plan for Atlantic salmon.

Bangor Hydro proposes to: (1) continue to operate the project in run-of-river mode; (2) continue to operate the existing upstream and downstream fish passage facilities; (3) continue to operate the existing upstream eel passage facility; (4) develop an operation and compliance monitoring plan; (5) develop a debris management plan; (6) develop an historic properties management plan; and (7) construct a formal canoe take-out, portage, and put-in around the West Enfield Dam.

m. A copy of the application is available for review on the Commission's website at http://www.ferc.gov, using the “eLibrary” link. Enter the docket number, excluding the last three digits in the docket number field, to access the document (P-2600). For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

For public inquiries and assistance with making filings such as interventions, comments, or requests for rehearing, contact the Office of Public Participation at (202) 502-6595 or OPP@ferc.gov.

o. The applicant must file the following on or before 5:00 p.m. Eastern Time on February 9, 2026: (1) a copy of the water quality certification; (2) a copy of the request for certification, including proof of the date on which the certifying agency received the request; or (3) evidence of a waiver of water quality certification.

p. Procedural schedule: The application will be processed according to the following schedule. Revisions to the schedule will be made as appropriate.

Milestone | Target date
Filing of motions to intervene, protests, comments, recommendations, preliminary terms and conditions, and preliminary prescriptions | February 2026.
Filing of reply comments | March 2026.

q. Final amendments to the application must be filed with the Commission on or before 5:00 p.m. Eastern Time on January 8, 2026.

(Authority: 18 CFR 2.1)

Dated: December 9, 2025.
Debbie-Anne A. Reese,
Secretary.

[FR Doc. 2025-22730 Filed 12-12-25; 8:45 am]

BILLING CODE 6717-01-P